DEPARTMENT OF ENERGY

Federal Energy Regulatory Commission

[Docket No. ER24-2046-000]

Midcontinent Independent System Operator, Inc.; Notice of Motion for Extension of Effective Date, Motion for Shortened Response Period, and Request for Expedited Action

On May 23, 2025, pursuant to Rules 212 and 2008 of the Commission's Rules of Practice and Procedure,¹ the Midcontinent Independent System Operator, Inc. (MISO) filed a motion for extension of the requested effective date of MISO's proposed revisions of its Open Access Transmission, Energy and Operating Reserve Markets Tariff and pro forma agreements submitted in compliance of Order Nos. 2023 and 2023-A,² a motion for a shorter answer period, and a request for expedited action on its extension motion. MISO requests that the Commission extend MISO's originally requested effective date from June 1, 2025 to 30 days after the date on which the Commission accepts MISO's compliance filing in the above referenced docket.

¹ 18 C.F. Deputy Secretary. R. §§ 385.212, 385.2008 (2024).

² Improvements to Generator Interconnection Procs. & Agreements, Order No. 2023, 184 FERC ¶ 61,054, order on reh'g, 185 FERC ¶ 61,063 (2023), order on reh'g, Order No. 2023-A, 186 FERC ¶ 61,199, errata notice, 188 FERC ¶ 61,134 (2024).

Answers to the motion must be filed by 5:00 p.m. Eastern Time on Monday, June 9, 2025.

Dated: May 28, 2025.
Carlos D. Clay,
Deputy Secretary.

[FR Doc. 2025-10106 Filed 6-3-25; 8:45 am]

BILLING CODE 6717-01-P